FEDERAL COMMUNICATIONS COMMISSION

Federal Advisory Committee Act; Downloadable Security Technology Advisory Committee

AGENCY: Federal Communications Commission.

ACTION: Notice.

SUMMARY: In accordance with the Federal Advisory Committee Act, this notice advises interested persons that the first meeting of the Federal Communications Commission's (FCC or Commission) Downloadable Security Technology Advisory Committee (DSTAC) has been rescheduled for February 23, 2015 at the Commission headquarters in Washington, DC.

DATES: February 23, 2015.

ADDRESSES: Federal Communications Commission, Room TW-C305 (Commission Meeting Room), 445 12th Street SW., Washington, DC 20554.

FOR FURTHER INFORMATION CONTACT: For additional information on this proceeding, contact Brendan Murray, Brendan.Murray@fcc.gov, of the Media Bureau, Policy Division, (202) 418-1573 or Nancy Murphy, Nancy.Murphy@fcc.gov, of the Media Bureau, (202) 418-1043.

SUPPLEMENTARY INFORMATION:

The meeting will be held on February 23, 2015, from 10:00 a.m. to 4:00 p.m. in the Commission Meeting Room of the Federal Communications Commission, Room TW-C305, 445 12th Street SW., Washington, DC 20554.

The DSTAC is a Federal Advisory Committee that will “identify, report, and recommend performance objectives, technical capabilities, and technical standards of a not unduly burdensome, uniform, and technology- and platform-neutral software-based downloadable security system.” On December 8, 2014, the FCC, pursuant to the Federal Advisory Committee Act, established the charter for the DSTAC.

The meeting on February 23, 2015, will be the first meeting of the DSTAC. The meeting was initially set to be held on February 17, 2015, but was cancelled because of closure of the Federal Government due to snow. At the meeting, the Committee will discuss (i) the scope of the report that it will deliver to the Commission, (ii) the ultimate goals of interested parties with respect to navigation device conditional access and content security, (iii) recommended working groups and the tasks for which they will be responsible, and (iv) any other topics related to the DSTAC's work that may arise.

The Commission will provide audio and/or video coverage of the meeting over the Internet from the FCC's Web page at http://www.fcc.gov/live. The public may submit written comments before the meeting to Brendan Murray, DSTAC Designated Federal Officer, by email to DSTAC@fcc.gov or by U.S. Postal Service Mail to 445 12th Street SW., Room 4-A726, Washington, DC 20554.

Open captioning will be provided for this event. Other reasonable accommodations for people with disabilities are available upon request. Requests for such accommodations should be submitted via email to fcc504@fcc.gov or by calling the Consumer & Governmental Affairs Bureau at (202) 418-0530 (voice), (202) 418-0432 (tty). Such requests should include a detailed description of the accommodation needed. In addition, please include a way the FCC can contact you if it needs more information. Please allow at least five days' advance notice; last-minute requests will be accepted, but may be impossible to fill.

Federal Communications Commission.
Marlene H. Dortch,
Secretary.

[FR Doc. 2015-03611 Filed 2-18-15; 4:15 pm]

BILLING CODE 6712-01-P